DEPARTMENT OF THE INTERIOR

National Park Service

[2253-665]

Notice of Inventory Completion: Illinois State Museum, Springfield, IL

AGENCY: National Park Service, Interior.

ACTION: Notice.

SUMMARY: The Illinois State Museum has completed an inventory of human remains, in consultation with the appropriate Indian tribes, and has determined that there is a likely cultural affiliation between the human remains and present-day Indian tribes. Representatives of any Indian tribe that believes itself to be culturally affiliated with the human remains may contact the Illinois State Museum. Repatriation of the human remains to the Indian tribes stated below may occur if no additional claimants come forward.

DATES: Representatives of any Indian tribe that believes it has a cultural affiliation with the human remains should contact the Illinois State Museum at the address below by May 21, 2012.

ADDRESSES: Dr. Robert E. Warren, Curator of Anthropology, Illinois State Museum, 1011 East Ash Street, Springfield, IL 62703-3500, telephone (217) 524-7903.

SUPPLEMENTARY INFORMATION: Notice is here given in accordance with the Native American Graves Protection and Repatriation Act (NAGPRA), 25 U.S.C. 3003, of the completion of an inventory of human remains under the control of the Illinois State Museum, Springfield, IL.

This notice is published as part of the National Park Service's administrative responsibilities under NAGPRA, 25 U.S.C. 3003 (d)(3). The determinations within this notice are the sole responsibility of the museum, institution, or Federal agency that has control of the Native American human remains. The National Park Service is not responsible for the determinations within this notice.

Consultation

A detailed assessment of the human remains was made by Illinois State Museum professional staff in consultation with representatives of the Cherokee Nation, Oklahoma; Eastern Band of Cherokee Indians of North Carolina; and the United Keetoowah Band of Cherokee Indians in Oklahoma.

History and Description of the Remains

Prior to 1967, human remains representing, at minimum, one individual were removed by an unidentified person or persons from a location recorded as “Big Eddy,” “By-1” and “Tennessee.” The human remains, consisting of one right tibia with healed periostitis (possible healed fracture), were later transferred to the Dickson Mounds Museum, Lewistown, IL, and placed in the Dickson Pathology Collection. In 1967, the Dickson Mounds Museum transferred possession and control of the human remains to the Illinois State Museum (ISM 809 541). No known individual was identified. No associated funerary objects are present.

Museum and historical records indicate the cultural affiliation of the human remains may be Cherokee. The Tennessee Department of Environment & Conservation has no listing for a “Big Eddy” site in its statewide archaeological site file. However, it is likely that “By-1” refers to site 40BY1, a village site recorded in 1936 near the confluence of South Chestuee Creek and the Hiwassee River in Bradley County, TN. Site 40BY1 is currently mapped within the boundaries of two large historic Cherokee town sites: Chestoe (40BY42) on the left (south) bank of the Hiwassee River and Chestuee (40PK2) on the right (north) bank. The names of the towns were derived from the Cherokee term Tsistuyi, meaning “Rabbit Place.” Chestoe and Chestuee were affiliated with the Overhill division of Cherokee towns located along the Hiwassee and Little Tennessee rivers. They may have been occupied as early as 1715, when mapmaker John Herbert joined Colonel George Chicken on a diplomatic mission to the Cherokee and documented the towns. The towns were destroyed along with nine other Overhill Cherokee towns during a 1780 military campaign led by Colonels Arthur Campbell of Virginia and John Sevier of Tennessee, but the Cherokee apparently reoccupied the towns by 1799. An archaeological survey has confirmed the former existence of a village at the site. A small collection of pottery sherds collected at the site in 1936 contains one shell-tempered sherd with a rim strip that could represent Overhill Cherokee or Mississippian occupations.

A review of the skeletal morphology indicates that the individual is likely to be Native American. The Cherokee Indians are represented by three present-day Indian tribes, the Cherokee Nation, Oklahoma; Eastern Band of Cherokee Indians of North Carolina; and United Keetoowah Band of Cherokee Indians in Oklahoma.

Determinations Made by the Illinois State Museum, Springfield, IL

Officials of the Illinois State Museum have determined that:

• Pursuant to 25 U.S.C. 3001 (9), the human remains described above represent the physical remains of one individual of Native American ancestry.

• Pursuant to 25 U.S.C. 3001 (2), there is a relationship of shared group identity that can be reasonably traced between the Native American human remains and the Cherokee Nation, Oklahoma; Eastern Band of Cherokee Indians of North Carolina; and the United Keetoowah Band of Cherokee Indians in Oklahoma.

Additional Requestors and Disposition

Representatives of any other Indian tribe that believes itself to be culturally affiliated with the human remains should contact Dr. Robert E. Warren, Curator of Anthropology, Illinois State Museum, 1011 East Ash Street, Springfield, IL 62703-3500, telephone (217) 524-7903, before May 21, 2012. Repatriation of the human remains to the Cherokee Nation, Oklahoma; Eastern Band of Cherokee Indians of North Carolina; and the United Keetoowah Band of Cherokee Indians in Oklahoma may proceed after that date if no additional claimants come forward.

The Illinois State Museum is responsible for notifying the Cherokee Nation, Oklahoma; Eastern Band of Cherokee Indians of North Carolina; and United Keetoowah Band of Cherokee Indians in Oklahoma that this notice has been published.

Dated: April 12, 2012.
David Tarler,
Acting Manager, National NAGPRA Program.

[FR Doc. 2012-9465 Filed 4-18-12; 8:45 am]

BILLING CODE 4312-50-P